POSTAL SERVICE

Removal of Global Direct Contracts From the Competitive Product List

AGENCY: Postal Service.

ACTION: Notice.

SUMMARY: The Postal Service hereby provides notice that it has filed a request with the Postal Regulatory Commission to remove Global Direct Contracts from the competitive product list.

DATES: Effective date: October 23, 2015.

FOR FURTHER INFORMATION CONTACT: Keith Nusbaum, 202-268-6687.

SUPPLEMENTARY INFORMATION: On October 16, 2015, the United States Postal Service® filed with the Postal Regulatory Commission a Request of the United States Postal Service to remove Global Direct Contracts from the Competitive Product List, pursuant to 39 U.S.C. 3642. Documents pertinent to this request are available at http://www.prc.gov, Docket No. MC2016-7.

Stanley F. Mires,
Attorney, Federal Compliance.

[FR Doc. 2015-26906 Filed 10-22-15; 8:45 am]

BILLING CODE 7710-12-P